ENVIRONMENTAL PROTECTION AGENCY

[EPA-R04-OAR-2024-0556; FRL-12424-01-R4]

Louisville Metro Air Pollution Control District; New Stationary Sources; Delegation of Authority

AGENCY: Environmental Protection Agency (EPA).

ACTION: Notice of delegation of authority.

SUMMARY: On July 25, 2023, the Louisville Metro Air Pollution Control District (LMAPCD) requested delegation of authority to implement and enforce the New Source Performance Standards (NSPS) under the Clean Air Act (CAA) using the “adopt-by-reference” mechanism. To inform regulated facilities and the public, the Environmental Protection Agency (EPA) is providing notice that it approved the LMAPCD's request on August 20, 2024.

DATES: On August 20, 2024, EPA sent the LMAPCD a letter approving the LMAPCD's request for delegation of authority to implement and enforce the Federal NSPS.

ADDRESSES: EPA has established a docket for this action under Docket ID No. EPA-R04-OAR-2024-0556 at https://www.regulations.gov. Copies of the request for delegation of authority and EPA's approval letter are included in the docket and are available for public inspection during normal business hours at the following locations: Environmental Protection Agency, Region 4, Air and Radiation Division, Air Analysis and Support Branch, 61 Forsyth Street SW, Atlanta, Georgia 30303-8960. Louisville Metro Air Pollution Control District, 701 West Ormsby Avenue, Suite 303, Louisville, Kentucky 40203-3137.

FOR FURTHER INFORMATION CONTACT: Henian Zhang, Regulatory and Community Air Toxics Section, Air Analysis and Support Branch, Air and Radiation Division, Environmental Protection Agency, Region 4, 61 Forsyth Street SW, Atlanta, Georgia 30303-8960, 404-562-8123, or zhang.henian@epa.gov.

SUPPLEMENTARY INFORMATION: On July 25, 2023, EPA received a letter from the LMAPCD requesting delegation of authority to implement and enforce the Federal NSPS using the “adopt-by-reference” mechanism. Section 111(c)(1) of the CAA authorizes EPA to delegate the authority to implement and enforce the NSPS set out in part 60 of title 40, chapter I, subchapter C of the Code of Federal Regulations (CFR) to State and local agencies that develop and submit to EPA an adequate procedure for implementing and enforcing the NSPS. After a thorough review of the request, EPA has determined that the LMAPCD's regulations provide an adequate procedure for implementing and enforcing current and future NSPS. EPA, therefore, hereby notifies the public that it has approved the LMAPCD's request for delegation of authority to implement and enforce all existing promulgated NSPS subparts that are delegable, and any future new or revised subparts that are delegable, using the “adopt-by-reference” mechanism. This approval became effective on August 30, 2024. With this NSPS delegation mechanism in place, once EPA promulgates a new or revised delegable NSPS subpart, delegation of authority from EPA to the LMAPCD will become effective on the date when the delegable NSPS subpart is adopted by the LMAPCD into its local rules. No further requests from the local agency for delegation will be necessary. Likewise, no further Federal Register notices will be published.

Under CAA section 111(c)(2), EPA reserves the right to implement the Federal NSPS directly and continues to retain concurrent enforcement authority. Effective August 30, 2024, and unless otherwise specified by the NSPS rules for reporting purposes, the information required pursuant to the Federal NSPS must be submitted by sources located inside the jurisdictional boundaries of the LMAPCD to the following address: Louisville Metro Air Pollution Control District, 701 West Ormsby Avenue, Suite 303, Louisville, Kentucky 40203-3137. The LMAPCD is the primary point of contact with respect to delegated NSPS authorities. For those authorities not delegated, sources must continue to submit all required information to EPA. As mentioned above, this notice acknowledges EPA's approval of the LMAPCD's request for delegation of authority to implement and enforce delegable NSPS using the “adopt-by-reference” mechanism.

Dated: June 25, 2025.
Kevin McOmber,
Regional Administrator, Region 4.

[FR Doc. 2025-12519 Filed 7-3-25; 8:45 am]

BILLING CODE 6560-50-P